DEPARTMENT OF EDUCATION

[Docket No. ED-2013-ICCD-0103]

Agency Information Collection Activities; Submission to the Office of Management and Budget for Review and Approval; Comment Request; Student Assistance General Provisions—Subpart K—Cash Management

AGENCY: Federal Student Aid (FSA), Department of Education (ED).

ACTION: Notice.

SUMMARY: In accordance with the Paperwork Reduction Act of 1995 (44 U.S.C. chapter 3501 et seq.), ED is proposing a revision of an existing information collection.

DATES: Interested persons are invited to submit comments on or before November 25, 2013.

ADDRESSES: Comments submitted in response to this notice should be submitted electronically through the Federal eRulemaking Portal at http://www.regulations.gov by selecting Docket ID number ED-2013-ICCD-0103 or via postal mail, commercial delivery, or hand delivery. Please note that comments submitted by fax or email and those submitted after the comment period will not be accepted. Written requests for information or comments submitted by postal mail or delivery should be addressed to the Director of the Information Collection Clearance Division, U.S. Department of Education, 400 Maryland Avenue SW., LBJ, Room 2E105,Washington, DC 20202-4537.

FOR FURTHER INFORMATION CONTACT: For questions related to collection activities or burden, please call Kate Mullan, 202-401-0563 or electronically mail ICDocketMgr@ed.gov. Please do not send comments here.

SUPPLEMENTARY INFORMATION: The Department of Education (ED), in accordance with the Paperwork Reduction Act of 1995 (PRA) (44 U.S.C. 3506(c)(2)(A)), provides the general public and Federal agencies with an opportunity to comment on proposed, revised, and continuing collections of information. This helps the Department assess the impact of its information collection requirements and minimize the public's reporting burden. It also helps the public understand the Department's information collection requirements and provide the requested data in the desired format. ED is soliciting comments on the proposed information collection request (ICR) that is described below. The Department of Education is especially interested in public comment addressing the following issues: (1) Is this collection necessary to the proper functions of the Department; (2) will this information be processed and used in a timely manner; (3) is the estimate of burden accurate; (4) how might the Department enhance the quality, utility, and clarity of the information to be collected; and (5) how might the Department minimize the burden of this collection on the respondents, including through the use of information technology. Please note that written comments received in response to this notice will be considered public records.

Title of Collection: Student Assistance General Provisions—Subpart K—Cash Management

OMB Control Number: 1845-0038

Type of Review: Revision of an existing collection of information.

Respondents/Affected Public: Individuals or households, Private Sector, State, Local, or Tribal Governments

Total Estimated Number of Annual Responses: 30,306,251

Total Estimated Number of Annual Burden Hours: 1,376,701

Abstract: This request is for a revision to the current information collection 1845-0038 that is expiring. This collection pertains to the recordkeeping requirements contained in the regulations related to the administration of 34 CFR part 668 Subpart K Cash Management of the Student Assistance General Provisions. The regulatory language has not changed. These program regulations are designed to provide benefits to Title IV, HEA applicants, and to protect the taxpayers interest. The information collection requirements in 34 CFR 668.163 and 668.165 are necessary to provide students with required information about their eligibility to receive funding under the federal student financial aid programs and to prevent fraud and abuse of program funds by allowing students to reduce or reject aid being offered as well as being made aware of when such funding can be expected to be available.

The Department is requesting that sections 34 CFR 668.23 and 668.24 which are currently in 1845-0038 be removed and the corresponding 1,260 hours be transferred to 1845-0022. These two sections are not included in Subpart K and are more appropriately a part of 1845-0022. We believe that during the transfer of the information collections from the Office of Postsecondary Education to Federal Student Aid that the regulatory sub sections were incorrectly included in this package.

Additionally, the Department is requesting the removal of the 1,750 burden hours currently attributed to 34 CFR 668.167 FFEL Program funds. This is due to the authority to make new Federal Family Education Loan (FFEL) program being terminated as of July 1, 2010 as a result of the Student Aid and Fiscal Responsibility Act (SAFRA) that was included in the Health Care and Reconciliation Act of 2010 (HCERA).

Dated: October 22, 2013.
Stephanie Valentine,
Acting Director, Information Collection Clearance Division, Privacy, Information and Records Management Services, Office of Management.

[FR Doc. 2013-25208 Filed 10-24-13; 8:45 am]

BILLING CODE 4000-01-P